DEPARTMENT OF ENERGY

Federal Energy Regulatory Commission

Notice Regarding Electronic Publication of Notices

June 16, 2000.

Take notice that effective June 21, 2000, the Commission will begin making notices public electronically on a continuous basis on the Commission's Issuance Posting System (CIPS).

Currently the Office of the Secretary, regularly posts copies of notices daily at 10 a.m., 3 p.m., and 4:30 p.m. on bulletin boards outside of the Public Reference Room.

Since the Commission has implemented an electronic document handling system for notices, the Commission now has the capability of making notices public electronically on CIPS on a continuous basis throughout the work day. In the past, notices were not added to CIPS until after the paper copy was posted on a bulletin board.

In order to provide notices to the public in a more timely manner, effective June 21, 2000, notices will be added to CIPS on a continuous basis throughout the day instead of awaiting the paper posting hours. The Secretary will continue to post paper copies of notices at 10:00 a.m., 3:00 p.m., 4:30 p.m., and when necessary after 5 p.m.

This announcement applies only to notice and not to any other Commission issuances.

David P. Boergers,
Secretary.

[FR Doc. 00-15785 Filed 6-21-00; 8:45 am]

BILLING CODE 6717-01-M